FEDERAL TRADE COMMISSION

[File No. P222100]

HISA Anti-Doping and Medication Control Rule; Correction

AGENCY: Federal Trade Commission.

ACTION: Notice of Horseracing Integrity and Safety Authority (HISA) proposed rule; correction.

SUMMARY: The Federal Trade Commission (“Commission”) published a document in the Federal Register of October 28, 2022, concerning the Anti-Doping and Medication Control proposed rule submitted by the Horseracing Integrity and Safety Authority. The Authority alerted the Commission that its submission contained an incorrect number. The Commission is issuing this correction to reflect the corrected number.

FOR FURTHER INFORMATION CONTACT: Austin King, Associate General Counsel for Rulemaking, 202-326-3166, aking3@ftc.gov, Office of the General Counsel, Federal Trade Commission, 600 Pennsylvania Avenue NW, Washington, DC 20580.

SUPPLEMENTARY INFORMATION:

Correction

In FR Doc. 2022-22970 appearing at 87 FR 65292 in the Federal Register of Friday, October 28, 2022, in the table on page 65365, in the entry for “ketoprofen,” change the first sentence of the final column, which currently reads [4 ng/mL in serum or plasma.], to read [2 ng/mL in serum or plasma.], which is the amount the Authority intended to submit but did not because of a typographical error.

Dated: October 31, 2022.
April J. Tabor,
Secretary.

[FR Doc. 2022-24016 Filed 11-3-22; 8:45 am]

BILLING CODE 6750-01-P